DEPARTMENT OF ENERGY

National Nuclear Security Administration; Notice of Intent To Prepare a Sitewide Environmental Assessment for Sandia National Laboratories, California

AGENCY: Office of Kirtland Site Operations, National Nuclear Security Administration, Department of Energy.

ACTION: Notice of intent.

SUMMARY: The Department of Energy (DOE), National Nuclear Security Administration (NNSA), Office of Kirtland Site Operations (OKSO), announces its intent to prepare a Site-Wide Environmental Assessment (SWEA) for its Sandia National Laboratories/California (SNL/CA), a DOE research and development laboratory located east of Livermore, California. The SWEA will address operations and activities that DOE foresees at SNL/CA for approximately the next 5 to 10 years. The purpose of this Notice of Intent (Notice) is to invite public participation in the SWEA scoping process and to encourage public dialogue on alternatives that should be considered.

DATES: The public scoping period starts with the publication of this Notice in the Federal Register and will continue until March 6, 2002. Public scoping meetings are scheduled to be held February 20, 2002.

ADDRESSES: Public scoping meetings are scheduled to be held as follows: February 20, 2002, 1 p.m.-4 p.m. and 6 p.m.-9 p.m., at Lawrence Livermore National Laboratory, Visitors Center Auditorium (T-6525) at the Eastgate entrance from Grennville Road.

The purpose of these meetings is to receive oral and written comments from the public. The meetings will use a format to facilitate dialogue between DOE and the public and will provide an opportunity for individuals to provide written or oral statements. The DOE will publish additional notices on the date, times, and location of the scoping meeting in local newspapers in advance of the scheduled meeting. Any necessary changes will be announced in the local media. In addition to providing oral comments at the public scoping meetings, all interested parties are invited to record their comments, ask questions concerning the SNL/CA SWEA, or request to be placed on the SNL/CA SWEA mailing or document distribution list.

The DOE invites other Federal agencies, Native American tribes, State and local governments, and the general public to comment on the scope of this SWEA. DOE will consider all comments received or postmarked by that date in defining the scope of this SWEA. Comments received or postmarked after that date will be considered to the extent practicable.

Written comments or suggestions concerning the scope of the SNL/CA SWEA should be directed to: Ms. Susan D. Lacy, U.S. Department of Energy, National Nuclear Security Administration, Office of Kirtland Site Operations, P.O. Box 5400, Albuquerque, New Mexico 87185-5400, by facsimile at (505) 845-4710, or email at slacy@doeal.gov. Please mark envelopes, faxes, and email: “Sandia National Laboratories, California Site-Wide Environmental Assessment Comments.” For express delivery services, the appropriate address is Pennsylvania and H Streets, Kirtland Air Force Base, Albuquerque, NM 87116.

FOR FURTHER INFORMATION CONTACT: Susan Lacy at the address and facsimile number listed above.

For Information On DOE's NEPA Process Contact: Ms. Carol Borgstrom, Director, Office of NEPA Policy and Assistance (EH-42), U.S. Department of Energy, 1000 Independence Avenue SW., Washington, DC 20585.

Ms. Borgstrom can be reached at (202) 586-4600, by facsimile at (202) 586-7031.

SUPPLEMENTARY INFORMATION: Copies of all written comments and transcripts of all oral comments will be available at the following location:

Sandia National Laboratories, California, 7011 East Avenue, Visitor Entrance, Building 911 Lobby, Livermore, Califorina.

and

Livermore Public Library, 1000 South Livermore Avenue, Livermore, California.

SNL/CA's Mission

Sandia Corporation is a prime contractor to the Department of Energy (DOE). Sandia Corporation, a wholly owned subsidiary of Lockheed Martin Corporation, manages and operates Sandia National Laboratories (SNL), with principal facilities in Albuquerque, NM; Livermore, CA; Tonopah, NV; and Kauai, HI. As one of the United States' multipurpose national laboratories, SNL develops solutions to a wide range of problems facing the country. SNL's mission includes advanced military technology, energy and environmental research, arms control/nonproliferation, and advanced manufacturing technology. Operations at SNL's California facility in Livermore comprise four broad areas:

Vital Role in Weapons: This program involves work in support of our nation's nuclear weapons program. These activities include weapon systems, weapon components/subsystems (gas transfer, use control, and instrumentation), reliability assessments, engineering sciences, advanced computing/networking, and supporting research.

Integrated Systems and Technologies: This program applies strong systems engineering practices and selected Sandia technologies to providing solutions for evolving national security needs, as well as to contributing to our nation's economic competitiveness. Work includes detection, nonproliferation, and demilitarization of weapons of mass destruction; development of secure, distributed information systems; applied research and development on combustion systems and other energy-intensive industrial processes; and advances in microsystems and micro-fabrication. Partnering with industry is an important and integral aspect of many of these activities.

Strong Research Base: This program performs world-class science in key competencies such as materials and engineering sciences, chemical sciences, information sciences, and an emerging competency in biological sciences. The work builds on both modeling and experimentation to provide linkages to global science and to ensure a seamless transition to many applications within the Laboratories Weapons, and Integrated Systems and Technologies roles.

Exemplary Operations: This program partners with the three business areas described above to ensure an infrastructure that provides a competitive advantage in implementing the site strategy. Most of the site's support and operations services are included in this business area. The site operates under the scope of Federal, State, and local regulatory authorities and has obtained all applicable operating permits.

SNL/CA has an annual budget of approximately $130 million and employs approximately 1,080 people. It occupies 410 acres in Alameda County California adjacent to the City of Livermore.

In addition to SNL/CA, Lawrence Livermore National Laboratory, a DOE/NNSA Laboratory, is located in close proximity to SNL/CA. The environmental impacts of operations at both the DOE/NNSA laboratories will be included in the discussion of cumulative impacts in the SWEA. DOE welcomes comments on this approach.

Role of the SWEA in the DOE NEPA Compliance Strategy

The SWEA will be prepared pursuant to the National Environmental Policy Act (NEPA) of 1969 (42 U.S.C. 4321 et seq.), the Council on Environmental Quality's NEPA regulations (40 CFR parts 1500-1508) and the DOE NEPA regulations (10 CFR Part 1021). The DOE has a policy (10 CFR 1021.330) to prepare site-wide documents for certain large, multiple-facility sites, such as SNL/CA. The purpose of a SWEA is to provide DOE and its stakeholders with an analysis of the environmental impacts caused by ongoing and reasonably foreseeable new operations and facilities and reasonable alternatives at a DOE site, to provide a basis for site-wide decision making, and to improve and coordinate agency plans, functions, programs, and resource utilization. The SWEA provides an overall NEPA baseline so that the environmental effects of proposed future changes in programs and activities can be compared with the baseline. A SWEA also enables DOE to “tier” its NEPA documents at a site to eliminate repetitive discussion of the same issues in future project-specific NEPA studies, and to focus on the actual issues ready for decisions at each level of environmental review. The NEPA process allows for Federal, Native American, state and local government, and public participation in the environmental review process. The Final Environmental Impact Statement and Environmental Impact Report for Continued Operation of Lawrence Livermore National Laboratory and Sandia National Laboratories, Livermore [DOE/EIS-0157], August 1992, is the existing site-wide environmental document for SNL/CA.

Related NEPA Reviews

The following is a list of recent NEPA documentation that affects the scope of this SWEA. The summaries below are intended to familiarize the reader with the purpose of these other NEPA reviews and how SNL/CA is considered in them.

Programmatic NEPA Reviews

The Waste Management Programmatic Environmental Impact Statement (PEIS) (DOE/EIS-0200) analyzes the DOE plan to formulate and implement a national integrated waste management program. The Final PEIS was published in May 1997. The Nonnuclear Consolidation Environmental Assessment [DOE/EA-0792] was published in June, 1993. A Finding of No Significant Impact on the Consolidation of the Nonnuclear Component within the Nuclear Weapons Complex was signed on September 8, 1993. The Stockpile Stewardship and Management PEIS was published in 1996 [DOE/EIS-0236] and a Record of Decision (ROD) was signed by the Secretary of Energy on December 19, 1996. Inherent in the many decisions made in the ROD was to continue the operations of the three national weapons laboratories, SNL being one of the three. The ROD emphasized stockpile stewardship as an essential program to maintain the safety and reliability of the stockpile in the absence of underground nuclear testing, therefore requiring enhanced experimental capabilities in the future at the three national weapons laboratories.

Preliminary Alternatives

The scoping process is an opportunity for the public to assist the DOE in determining the alternatives and issues for analysis in the SWEA. DOE welcomes specific comments or suggestions on the content of the proposed preliminary alternatives, or on other alternatives that could be considered. DOE is proposing to continue current operations at SNL/CA. Two preliminary alternatives were identified during internal scoping: the No Action alternative and the Expanded Operations alternative. DOE also considered a Reduced Operations alternative. However, current activities at SNL/CA are at the minimum level of operations needed to protect the technical capability and competency to support the site's assigned missions. Therefore, the Department plans to include the Reduced Operations alternative in the SWEA as an alternative considered but eliminated from further analysis.

No Action. NEPA regulations require analysis of the No Action alternative to provide a benchmark for comparison with environmental effects of the other alternatives. The No Action alternative would continue current facility operations throughout SNL/CA in support of assigned missions, and for this SWEA, it is also the proposed action. With respect to the Defense Programs mission, the future role of SNL was defined at the programmatic level by the Stockpile Stewardship and Management Programmatic Environmental Impact Statement (SSM PEIS) Record of Decision (ROD) (61 FR 68014) (December 26, 1996).

Expanded Operations. This alternative would reflect an increase in facility operations to the highest levels that can be supported by current facilities. This could require construction projects to address safety, security and environmental compliance as well as to support reconfiguration of facility equipment and operations to optimize use of current facilities' capabilities. This alternative will set the bounding conditions for assessing the environmental impacts.

Preliminary Issues Identified by Internal Scoping

The issues listed below have been identified for analysis in this SWEA as being applicable to the operation of SNL/CA. The list is tentative and is intended to facilitate public comment on the scope of this SWEA. It is not intended to be all-inclusive, nor does it imply any predetermination of potential impacts. The SWEA will describe the potential environmental impacts of the alternatives, using available data where possible and obtaining additional data where necessary. In accordance with the Council on Environmental Quality Regulations (40 CFR 1500.4 and 1502.21), other documents, as appropriate, may be incorporated into the impacts analyses by reference, in whole or in part. DOE specifically welcomes suggestions and comments for the addition or deletion of items on the following list of potential effects:

—Potential effects on the public and workers from exposures to radiological and hazardous materials during normal operations and from reasonably postulated accidents;

—Potential effects on air and groundwater quality from normal operations and potential accidents;

—Potential cumulative effects of past, present, and future operations at SNL/CA (this SWEA will include effects of current and reasonably foreseeable federal actions including Lawrence Livermore National Laboratory);

—Effects on waste management practices and activities, including pollution prevention, waste minimization, and waste stream characterization; and

—Potential impacts of noise levels to the ambient environment and sensitive receptors.

Classified Material

DOE will review classified material while preparing this SWEA. Within the limits of classification, DOE will provide to the public as much information as possible. Any classified material required to explain the purpose and need for action, or the uses, materials, or impacts analyzed in this SWEA, will be segregated into a classified appendix or supplement.

Issued in Albuquerque, New Mexico on January 29, 2002.
Michael J. Zamorski,
Director, U.S. Department of Energy, Office of Kirtland Site Operations.

[FR Doc. 02-2700 Filed 2-1-02; 8:45 am]

BILLING CODE 6450-01-P